DEPARTMENT OF VETERANS AFFAIRS

[OMB Control No. 2900-NEW]

Agency Information Collection Activity Under OMB Review: VHA Fraud, Waste and Abuse Complaint Form

AGENCY: Veterans Health Administration, Department of Veterans Affairs.

ACTION: Notice.

SUMMARY: In compliance with the Paperwork Reduction Act (PRA) of 1995, this notice announces that the Veterans Health Administration (VHA), Department of Veterans Affairs (VA), will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments,” then search the list for the information collection by Title or “OMB Control No. 2900-NEW.”

FOR FURTHER INFORMATION CONTACT: VA PRA information: Maribel Aponte, 202-461-8900, vacopaperworkreduact@va.gov.

SUPPLEMENTARY INFORMATION:

Title: VHA Fraud, Waste and Abuse Complaint Form (VA Form 10-390).

OMB Control Number: 2900-NEW. https://www.reginfo.gov/public/do/PRASearch.

Type of Review: New collection.

Abstract: The Secretary of VA has broad authority under Title 38 United States Code, section 501, to protect Veterans and their family members from fraud and enforce compliance with federal laws and regulations. The VA is an active participant in the cross-government Veteran Scam and Fraud Evasion (VSAFE) campaign and Task Force, and this information collection supports the goals for the reporting and resolution of potential fraud issues.

The purpose of this information collection is to receive and process complaints related to fraud, waste and abuse in VA health care programs. An individual can file a complaint with the VA Office of Integrity and Compliance (OIC) using the Department's regular mail (letter), email, hotline telephone line, fax or, in the future, by filing a web-based complaint. The new VA Form 10-390 can be used by individuals to capture information for a fraud, waste or abuse complaint. The form may be submitted anonymously, and there is no requirement to complete all the fields. All complaints are entered into the Compliance Inquiry Reporting & Tracking System (CIRTS), which is used by VA OIC Staff to record and track complaints as they are processed by VA.

An agency may not conduct or sponsor, and a person is not required to respond to a collection of information unless it displays a currently valid OMB control number. The Federal Register Notice with a 60-day comment period soliciting comments on this collection of information was published at 89 FR 51948, June 20, 2024.

Affected Public: Individuals or Households.

Estimated Annual Burden: 283 hours.

Estimated Average Burden per Respondent: 10 minutes.

Frequency of Response: On occasion.

Estimated Number of Respondents: 1,700.

Authority: 44 U.S.C. 3501 et seq.

Maribel Aponte,
VA PRA Clearance Officer, Office of Enterprise and Integration, Data Governance Analytics, Department of Veterans Affairs.

[FR Doc. 2024-19312 Filed 8-27-24; 8:45 am]

BILLING CODE 8320-01-P